DEPARTMENT OF TRANSPORTATION

Federal Highway Administration

Notice of Final Federal Agency Actions on Proposed Highways in the State of Utah—Geneva Road EIS and SR-262, Montezuma Creek to Aneth

AGENCY: Federal Highway Administration (FHWA), DOT.

ACTION: Notice of limitation on claims for judicial review of actions by FHWA.

SUMMARY: This notice announces actions taken by the FHWA that are final within the meaning of 23 U.S.C. 139(l)(1). The actions relate to various proposed highway projects in the State of Utah. Those actions grant approvals for the projects.

DATES: By this notice, the FHWA is advising the public of final agency actions subject to 23 U.S.C. 139(l)(1). A claim seeking judicial review of the Federal agency actions on any of the listed highway projects will be barred unless the claim is filed on or before June 9, 2010. If the Federal law that authorizes judicial review of a claim provides a time period of less than 180 days for filing such claim, then that shorter time period still applies.

FOR FURTHER INFORMATION CONTACT: For FHWA: Mr. Edward Woolford, Environmental Program Manager, Federal Highway Administration, 2520 West 4700 South, Suite 9A, Salt Lake City, Utah 84118; telephone: (801) 963-0182; e-mail: Edward.Woolford@DOT.gov. The FHWA Utah Division Office's normal business hours are 7:00 a.m. to 4:30 p.m. (Mountain Standard Time). For UDOT: Ms. Rebecca Stromness, Environmental Program Manager, Utah Department of Transportation, 4501 South 2700 West, Box 148450, Salt Lake City, Utah 84118-8450; telephone: (801) 965-4327; e-mail: Rstromness@utah.gov.

SUPPLEMENTARY INFORMATION: Notice is hereby given that the FHWA has taken final agency action by issuing approval for the highway projects in the State of Utah that are listed below. The action by the Federal agency on a project, and the laws under which such actions were taken, are described in the documented environmental impact statement (EIS) issued in connection with the projects, and in other project records. The FEIS, Record of Decision (ROD), and other project records for the listed projects are available by contacting the FHWA or the Utah Department of Transportation at the addresses provided above. For some of the projects, the FEIS, ROD and documents also can be viewed and downloaded electronically as specified below. This notice applies to all Federal agency decisions as of the issuance date of this notice and all laws under which such actions were taken, including but not limited to:

1. General: National Environmental Policy Act (NEPA) [42 U.S.C. 4321-4347]; Federal-Aid Highway Act (FAHA) [23 U.S.C. 109 and 23 U.S.C. 128].

2. Air: Clean Air Act (CAA) [42 U.S.C. 7401-7671(q)].

3. Land: Section 4(f) of the Department of Transportation Act of 1966 (4f) [49 U.S.C. 303].

4. Wildlife: Endangered Species Act (ESA) [16 U.S.C. 1531-1544 and Section 1536]; Migratory Bird Treaty Act (MBTA) [16 U.S.C. 703-712].

5. Historic and Cultural Resources: Section 106 of the National Historic Preservation Act of 1966, as amended (106) [16 U.S.C. 470(f) et seq.]; Archeological Resources Protection Act of 1977 (ARPA) [16 U.S.C. 470(aa)-470(ll)]; Archeological and Historic Preservation Act (AHPA) [16 U.S.C. 469-469(c)].

6. Social and Economic: Civil Rights Act of 1964 (Civil Rights) [42 U.S.C. 2000(d) et seq.

7. Wetlands and Water Resources: Clean Water Act (Section 401, Section 319) [33 U.S.C. 1251-1377]; Rivers and Harbors Act of 1899 (RHA) [33 U.S.C. 401-406]; Wetlands Mitigation (Sections 103 and 133) [23 U.S.C. 103(b)(6)(M) and 133(b)(11)].

8. Executive Orders: E.O. 11990 Protection of Wetlands; E.O. 11988 Floodplain Management; E.O. 11514 Protection and Enhancement of Environmental Quality; E.O. 12898, Federal Actions to Address Environmental Justice in Minority Populations and Low Income Populations.

The projects subject to this notice are:

Geneva Road. Project location: Utah County, Utah; Provo Center Street north through Utah County, including the cities of Orem, Vineyard, and Lindon to State Street (SR-89) in Pleasant Grove. Project reference number: FHWA-UT-EIS-08-01-F. Project type: The project will include roadway improvements to add travel lanes in order to meet LOS D in year 2030, intersection improvements, cross-section improvements, improvements to the horizontal alignment at 400 North, and sidewalk, trail, and shoulder improvements. Final agency action(s) taken under: NEPA, FAHA, CAA, 4f, 106, ESA, MBTA, ARPA, AHPA, Civil Rights, E.O. 11990, E.O. 11514, E.O. 12898. FHWA NEPA documents: FEIS approved on August 18, 2009; ROD issued on October 13, 2009, both available at http://www.udot.utah.gov/geneva.

SR-262, Montezuma Creek to Aneth. Project location: San Juan County, Utah; SR-262, Montezuma Creek to Aneth. Project reference number: FHWA-UT-EIS-08-02-D. Project type: The project proposes safety improvements to 8.5 miles of State Route (SR) 162 (formally numbered SR-262) by improving roadway deficiencies and reducing potential conflicts with pedestrians and animals through improvements and realignment of the SR-162/SR-262 intersection and highway widening between the cities of Montezuma and Aneth, Utah. Final agency action(s) taken under: NEPA, FAHA, CAA, 4f, 106, ESA, MBTA, ARPA, AHPA, Civil Rights, E.O. 11990, E.O. 11514, E.O. 12898. FHWA NEPA documents: FEIS approved on June 2, 2009; ROD issued on August 25, 2009, available at http://www.udot.utah.gov/sr-262/.

(Catalog of Federal Domestic Assistance Program Number 20.205, Highway Planning and Construction. The regulations implementing Executive Order 12372 regarding intergovernmental consultation on Federal programs and activities apply to this program.)

Authority: 23 U.S.C. § 139(l)(1).

Issued on: December 3, 2009.
James C. Christian,
Division Administrator, Salt Lake City.

[FR Doc. E9-29579 Filed 12-10-09; 8:45 am]

BILLING CODE 4910-RY-P